DEPARTMENT OF THE INTERIOR

Bureau of Land Management

[OR-912-6320-PO; HAG 4-0131]

Call for Nominations: Resource Advisory Committees

AGENCY: Bureau of Land Management, Interior.

ACTION: Oregon District Resource Advisory Committees call for nominations.

SUMMARY: The Bureau of Land Management (BLM) gives notice that the Secretary of the Interior will solicit nominations for members and alternates for the BLM's Coos Bay, Eugene, Medford, Roseburg, and Salem District Resource Advisory Committees in the State of Oregon. Nominations will be used to fill 15 member and 6 alternate position as follows:

Category One—5 members, 2 alternates

Category Two—5 members, 2 alternates

Category Three—5 members, 2 alternates

DATES: Nomination forms are available at those District Offices listed below. All materials must be received by the appropriate BLM District office on or before June 14, 2004.

ADDRESSES: Nominations for the District RACs should be sent to the appropriate BLM District office listed below:

| BLM contact | Address | Telephone
Coos Bay District RAC | Sue Richardson, District Manager | 1300 Airport Land, North Bend, Oregon 97459 | (541) 756-0100
Eugene District RAC | Julia Dougan, District Manager | 2890 Chad Street, Eugene, Oregon 97440 | (541) 683-6600
Medford District RAC | Tim Reuwsaat, District Manager | 3040 Biddle Road, Medford, Oregon 97504 | (541) 618-2200
Roseburg District RAC | Jay Carlson | 777 NW Garden Valley Blvd., Roseburg, Oregon 97470 | (541) 440-4930
Salem District RAC | Denis Williamson, District Manager | 1717 Fabry Road SE, Salem, Oregon 97306 | (503) 375-5646

FOR FURTHER INFORMATION CONTACT: Pam Robbins, Oregon/Washington Bureau of Land Management, Oregon State Office, PO Box 2965, Portland, Oregon 97208, (503) 808-6306.

SUPPLEMENTARY INFORMATION: The purpose of a resource advisory committee is to improve collaborative relationships and to provide advice and recommendations to the BLM consistent with the objectives of the Act. The Committees for the five western Oregon BLM districts covered under the Act are composed of 15 members, plus 6 alternates, representing broad interest categories.

Committee membership must be balanced in terms of the categories of interest represented as follows:

—Category One—Representatives of organized labor; developed outdoor recreation; off-highway vehicle use; energy and/or mining development; timber industry; or holders of federal grazing or other land use permits.

—Category Two—Representatives of nationally, regionally or locally recognized environmental organizations; dispersed recreation, archaeological and historic interests; or wild horse and burro groups.

—Category Three—State, county or local elected officials; representatives of Native American Tribes; school officials or teachers, or the public-at-large.

Any individual or organization may nominate one or more persons to serve on the Committees. Individuals may also nominate themselves or others, and current members may reapply. Nominees must reside within one of the counties that are (in whole or part) within the BLM District boundaries of the Committee(s) on which membership is sought. A person may apply for and serve on more than one Committee. Nominees will be evaluated based on their education, training, experience relating to land use issues, recommendations from others, and knowledge of the geographical area of the Committee. Nominees must also demonstrate a commitment to collaborative resource decision-making. Members are appointed or reappointed for 3-year terms.

Geographic areas for each Committee are as follows:

Coos Bay District boundary includes federal lands within Coos, Curry, Douglas, and Lane Counties.

Eugene District boundary includes federal lands within Benton, Douglas, Lane, and Linn Counties.

Medford District Resource Advisory Committee boundary includes federal lands within Medford District and Klamath Falls Resource Area in the Lakeview District. The area covers Coos, Curry, Douglas, Jackson, and Josephine Counties, and small portions of west Klamath County.

Roseburg District boundary includes federal lands within Douglas, Lane, and Jackson Counties.

Salem District boundary includes federal lands within Benton, Clackamas, Clatsop, Columbia, Lane, Lincoln, Linn, Marion, Multnomah, Polk, Tillamook, Washington, and Yamhill Counties.

Authority: 43 CFR 1784.4-1.

Judy Ellen Nelson,
Acting Associate State Director, OR/WA Bureau of Land Management.

[FR Doc. 04-10437 Filed 5-13-04; 8:45 am]

BILLING CODE 4310-33-P